DEPARTMENT OF STATE

[Public Notice: 12195]

30-Day Notice of Proposed Information Collection: Welcome Corps Application

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to October 27, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Direct requests for additional information regarding the collection listed in this notice, including requests for copies of the proposed collection instrument and supporting documents to Cassie Le, who may be reached on 202-805-9291 or at LeCR@state.gov.

SUPPLEMENTARY INFORMATION:

• Title of Information Collection: Welcome Corps Application.

• OMB Control Number: 1405-0256.

• Type of Request: Extension of a currently approved collection.

• Originating Office: PRM/A.

• Form Number: No form.

• Respondents: Respondents: Private Sponsor Groups (PSGs), groups of at least five or more individual American citizens or permanent residents who will be able to apply to sponsor the resettlement of refugees, and Private Sponsor Organizations (PSOs), established and/or incorporated organizations who will be able to apply to mobilize, organize, oversee, and/or offer support to Private Sponsor Groups.

• Estimated Number of Respondents: 2,020.

• Estimated Number of Responses: 2,020.

• Average Time per Response: 5.5 hours.

• Total Estimated Burden Time: 8,908 hours total.

• Frequency: Once per respondent.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are a public record. Before including any detailed personal information, you should be aware that your comments as submitted, including your personal information, will be available for public review.

Abstract of Proposed Collection

In Executive Order 14013 on “Rebuilding and Enhancing Programs to Resettle Refugees and Planning for the Impact of Climate Change on Migration” issued in February 2021, President Biden directed the Department of State and Department of Health and Human Services to “capitalize on . . . private sponsorship of refugees” as part of efforts to “meet the challenges of restoring and expanding the [U.S. Refugee Admissions Program].” To fulfill this directive, the Department of State is rolling out a program for private sponsorship of refugees approved for admission to the United States through the U.S. Refugee Admissions Program (USRAP), named “the Welcome Corps.”

Through the Welcome Corps application process, private sponsors accept primary responsibility to welcome arriving refugees and to provide core services/assistance to support their initial resettlement equivalent to what is provided by nonprofit resettlement agency partners through the U.S. Government-funded Reception and Placement (R&P) program. When private sponsors apply through the program, sponsors have the option to be matched with a refugee case already being processed through the USRAP or to refer specific individuals to access the USRAP through the P-4 Privately Sponsored Refugees category. The P-4 category, along with the other categories of cases that have access to the USRAP, is outlined in the annual Proposed Refugee Admissions—Report to Congress, which is submitted on behalf of the President in fulfillment of the requirements of section 207(d) of the Immigration and Nationality Act (8 U.S.C. 1157) and authorized by the annual Presidential Determination for Refugee Admissions.

Private sponsor entities include Private Sponsor Groups (groups of at least five or more individual American citizens or permanent residents who can apply to sponsor the resettlement of refugees) and Private Sponsor Organizations (established and/or incorporated organizations who can apply to mobilize, organize, oversee, and/or offer support to Private Sponsor Groups).

As part of the Welcome Corps application process for private sponsors, biographic information is collected from Private Sponsor Groups (PSGs) and Private Sponsor Organizations (PSOs) to facilitate the placement of approved refugee applicants with private sponsors and to plan for refugee applicants to travel to the appropriate location of private sponsors within the United States. In instances where private sponsors are seeking to refer specific individuals to access the USRAP through the P-4 category, additional information is collected on refugee applicants, including biographic information, to assess whether refugee applicants meet the eligibility criteria to access the USRAP through the P-4 category. The information collected on refugee applicants will also assist Department of Homeland Security's U.S. Citizenship and Immigration Services (USCIS) officials in conducting adjudications of applicants' refugee status.

Methodology

The Department of State's Bureau of Population, Refugees, and Migration (PRM) has entered into a cooperative agreement with the Community Sponsorship Hub (CSH), which is managing a consortium of non-governmental organizations (NGOs) to establish and oversee an online application process to intake applications from PSGs and PSOs and screen their applications for approval for participation in the Welcome Corps. CSH and the NGO consortium it is managing will also screen referrals submitted by PSGs and PSOs of refugee applicants before sharing referrals with PRM for consideration of whether referred refugee applicants meet the eligibility criteria to be granted access to the USRAP through the P-4 category.

As part of the online application process for PSGs, the NGO consortium will collect information on PSGs as part of completed applications submitted electronically by prospective private sponsors through the program website that is being built and managed by the consortium (www.welcomecorps.org). This will include biographic information on each member of the PSG, evidence that each member of the PSG has completed the required background checks through a third-party identified by the consortium, evidence that at least one member of the PSG has completed required online training developed by the consortium, and details on how PSGs will plan to provide initial resettlement support to the refugees who are matched to them through the Welcome Corps.

In addition, the NGO consortium will also oversee a separate application process for PSOs and collect information from PSOs accordingly. This will include biographic information for a key point of contact at the PSO, background information on the organizational structure of the PSO, and information on the PSO's organizational resources and staffing capacity to mobilize, support, and oversee PSGs.

The NGO consortium will also collect information on refugee applicants referred by PSGs and PSOs for access to the USRAP through the P-4 category that will be submitted electronically by PSGs and PSOs through the program website. This will include biographic information on each refugee applicant being referred, claimed relationships of the principal refugee applicant to all derivatives on the referral, their immigration status in the country of asylum, a narrative of the principal applicant's refugee claim, and supporting documentation.

To support PRM's operational requirements to facilitate placements of refugee cases with PSGs (including those supported by specific PSOs), the consortium will share key biographic information of PSGs and PSOs with PRM. This will include points of contact of PSGs and PSOs, such as the name of the designated point of contact along with that private sponsor group member's address, phone number, email address, and other relevant contact information. Information collected by the NGO consortium on referred refugee applicants will also be shared with PRM to enable PRM to determine whether applicants meet the eligibility criteria for access to the USRAP through the P-4 category.

The consortium will electronically transmit biographic information on PSGs and PSOs, along with information on refugee applicants, to PRM's Refugee Processing Center (RPC) through secure means. Biographic information on PSGs and PSOs will enable PRM to facilitate the matching of approved refugee applicants with approved PSGs or PSOs and to track the placement of refugee applicants, similarly to how PRM facilitates and tracks placement of refugee applicants supported by PRM's funded resettlement agency partners through the R&P Program. This will enable PRM to have a record of the relevant point of contact for each resettled refugee case supported by a PSG or PSO through the Welcome Corps.

The information on refugee applicants will enable PRM to assess the eligibility of referred applicants to access the USRAP through the P-4 category. Those meeting the eligibility criteria will be granted access to the USRAP for further processing. Referred refugee applicants approved for resettlement in the United States will be served by the private sponsors who referred them.

Kevin E. Bryant,
Deputy Director, Office of Directives Management, U.S. Department of State.

[FR Doc. 2023-21042 Filed 9-26-23; 8:45 am]

BILLING CODE 4710-33-P